DEPARTMENT OF THE INTERIOR

Bureau of Ocean Energy Management

[MMAA104000]

Gulf of Mexico, Outer Continental Shelf (OCS), Western Planning Area (WPA) Oil and Gas Lease Sale 233

AGENCY: Bureau of Ocean Energy Management (BOEM), Interior.

ACTION: Notice of Availability of a Record of Decision.

SUMMARY: BOEM has prepared a Record of Decision (ROD) for WPA Lease Sale 233 on the Gulf of Mexico OCS Oil and Gas Lease Sales: 2013-2014; Western Planning Area Lease Sale 233, and Central Planning Area Lease Sale 231; Final Supplemental Environmental Impact Statement (WPA 233/CPA 231 Supplemental EIS). WPA Lease Sale 233, scheduled for August 28, 2013, is the second WPA lease sale scheduled in the Proposed Final Outer Continental Shelf Oil & Gas Leasing Program: 2012-2017. The lease sale is in the Gulf of Mexico's WPA off the States of Texas and Louisiana. In making its decision, BOEM considered alternatives to the proposed action and the potential impacts as presented in the WPA 233/CPA 231 Supplemental EIS and all comments received throughout the National Environmental Policy Act (NEPA) process. The WPA 233/CPA 231 Supplemental EIS evaluated the environmental and socioeconomic impacts for WPA Lease Sale 233.

SUPPLEMENTARY INFORMATION: In the WPA 233/CPA 231 Supplemental EIS, BOEM evaluated three alternatives, which are summarized below:

Alternative A—The Proposed Action: This is BOEM's preferred alternative identified in the WPA 233/CPA 231 Supplemental EIS. This alternative would offer for lease all unleased blocks within the WPA for oil and gas operations. A subset of Alternative A includes the following exceptions:

(1) whole and partial blocks within the boundary of the Flower Garden Banks National Marine Sanctuary (i.e., the boundary as of the publication of the WPA 233/CPA 231 Supplemental EIS).

(2) whole blocks and portions of blocks that lie within the former Western Gap and that lie within 1.4 nautical miles north of the continental shelf boundary between the United States and Mexico (the “1.4 nautical mile buffer”).

The proposed WPA lease sale area encompasses about 28.58 million acres. As of May 2013, approximately 20.6 million acres of the proposed WPA lease sale area are currently unleased. The estimated amount of resources projected to be developed as a result of proposed WPA Lease Sale 233 is 0.116-0.200 billion barrels of oil (BBO) and 0.538-0.938 trillion cubic feet (Tcf) of gas.

Alternative B—The Proposed Action Excluding the Unleased Blocks Near Biologically Sensitive Topographic Features: This alternative would offer for lease all unleased blocks within the proposed WPA lease sale area, as described for the proposed action (Alternative A), with the exception of any unleased blocks subject to the Topographic Features Stipulation.

Alternative C—No Action: This alternative is the cancellation of proposed WPA Lease Sale 233 and is identified as the environmentally preferred alternative.

After careful consideration, BOEM has selected a subset of the proposed action, identified as BOEM's preferred alternative (Alternative A) in the WPA 233/CPA 231 Supplemental EIS. Although considered as part of the proposed action identified in the WPA 233/CPA 231 Supplemental EIS, BOEM is excluding from WPA Lease Sale 233 whole and partial blocks within the boundary of the Flower Garden Banks National Marine Sanctuary (i.e., the boundary as of the publication of the WPA 233/CPA 231 Supplemental EIS). Also excluded are whole blocks and portions of blocks that lie within the former Western Gap and that lie within 1.4 nautical miles (nmi) north of the Continental Shelf boundary between the United States and Mexico (the 1.4 nmi buffer). A Continental Shelf boundary treaty between the United States and the United Mexican States currently prohibits exploration and development in the 1.4 nmi buffer. As such, BOEM is excluding the 1.4 nmi buffer from WPA Lease Sale 233. BOEM's selection of this subset of the preferred alternative reflects a balancing of the need for orderly resource development with protection of the human, marine, and coastal environments, while also ensuring that the public receives an equitable return for these resources and that free-market competition is maintained.

Record of Decision Availability: To obtain a single printed or CD-ROM copy of the ROD for proposed WPA Lease Sale 233, you may contact BOEM, Gulf of Mexico OCS Region, Public Information Office (GM 250I), 1201 Elmwood Park Boulevard, New Orleans, Louisiana 70123-2394 (1-800-200-GULF). An electronic copy of the ROD is available on BOEM's Internet Web site at http://boem.gov/Environmental-Stewardship/Environmental-Assessment/NEPA/nepaprocess.aspx.

FOR FURTHER INFORMATION CONTACT: For more information on the ROD, you may contact Mr. Gary D. Goeke, Bureau of Ocean Energy Management, Gulf of Mexico OCS Region, 1201 Elmwood Park Boulevard (GM 623E), New Orleans, Louisiana 70123-2394. You may also contact Mr. Goeke by telephone at (504) 736-3233.

Authority: This NOA is published pursuant to the regulations (40 CFR 1506) implementing the provisions of the NEPA of 1969, as amended (42 U.S.C. 4321 et seq. [1988]).

Dated: July 17, 2013.
Tommy P. Beaudreau,
Director, Bureau of Ocean Energy Management.

[FR Doc. 2013-18173 Filed 7-26-13; 8:45 am]

BILLING CODE 4310-MR-P